DEPARTMENT OF AGRICULTURE

Commodity Credit Corporation

Natural Resources Conservation Service Conservation Security Program

AGENCY: Natural Resources Conservation Service and Commodity Credit Corporation, USDA.

ACTION: Notice; correction.

DATES: The administrative actions announced in this notice are effective on April 19, 2005.

SUMMARY: The Natural Resources Conservation Service published in the Federal Register of March 25, 2005 (70 FR 15277), a document concerning the FY 2005 CSP sign-up process. The notice contained a typographic error that may impact program implementation. This document corrects that error.

FOR FURTHER INFORMATION CONTACT: Craig Derickson, Branch Chief—Stewardship Programs, Financial Assistance Programs Division, NRCS, P.O. Box 2890, Washington, DC 20013-2890, telephone: (202) 720-1845; fax: (202) 720-4265. Submit e-mail to: craig.derickson@usda.gov, Attention: Conservation Security Program.

SUPPLEMENTARY INFORMATION: The Natural Resources Conservation Service published a document in the Federal Register on March 25, 2005, (70 FR 15277) announcing the CSP-05-01 sign-up that is being held from March 28, 2005, through May 27, 2005, in selected 8-digit watersheds in all 50 States and the Caribbean. The sign-up notice contained two typographic errors on the “2005 CSP Enrollment Categories—Criteria by Land Use and Category” matrix found on pages 15280 and 15281 of the Federal Register notice. In the “Pasture” portion of the matrix at the bottom of page 15280, the criteria for Category A in the column under “Stewardship practices and activities (from list below) in place for at least two years,” as corrected, is to read as follows: “At least 2 unique practices or activities from each area of Soil Quality and Water Quality, and 1 from Wildlife Habitat.” In addition, in the “Range” portion of the matrix at the top of page 15281, the criteria for Category D in the column under “Stewardship practices and activities (from list below) in place for at least two years,” as corrected, is to read as follows: “Prescribed Grazing plus at least 1 unique practice or activity from any of the following areas of Soil Quality, Water Quality, and Wildlife Habitat.”

Dated: April 13, 2005.
Teressa Davis,
Federal Register Liaison, Natural Resources Conservation Service.

[FR Doc. 05-7793 Filed 4-18-05; 8:45 am]

BILLING CODE 3410-16-P